DEPARTMENT OF AGRICULTURE

Forest Service

Notice of New Fee Sites; Federal Lands Recreation Enhancement Act, (Title VIII, Pub. L. 108-447)

AGENCY: White Mountain National Forest, USDA Forest Service.

ACTION: Notice.

SUMMARY: The White Mountain National Forest proposes to add three sites to the Recreation Fee Program. Fees are determined based on the level of amenities and services provided, cost of operation, maintenance, and market assessment. Funds from fees will be used for the continued operation and maintenance of the sites.

The fees proposed are as follows: Cabot Cabin would have an overnight rental fee of $30. There would be a $10 fee for overnight camping at Sawyer Pond Tentsite; and Zealand Picnic Area would be added to the Forest-wide Recreation Pass program.

National recreation passes such as the Interagency Annual Pass, Senior Pass, Access Pass, or White Mountain National Forest Annual Pass would be valid for day use fees at these sites.

DATES: Comments on the proposal will be accepted through July 15, 2009. Cabot Cabin will become available for rent January 1, 2010 through the National Recreation Reservation Service. Fees for Sawyer Pond and Zealand Picnic Area are payable on site and will go into effect May 15, 2010, pending a recommendation from the Eastern Region Recreation Resource Advisory Committee (RRAC).

ADDRESSES: Forest Supervisor, White Mountain National Forest, 719 No. Main St., Laconia, NH 03246.

FOR FURTHER INFORMATION CONTACT: Marianne Leberman, Recreation Wilderness Program Leader (603) 528-8751. Information about the proposed fee changes can also be found on the White Mountain National Forest Web site: http://www.fs.fed.us/r9/white.

SUPPLEMENTARY INFORMATION: The Federal Recreation Lands Enhancement Act (Title VII, Public Law 108-447) directed the Secretary of Agriculture to publish a six month advance notice in the Federal Register whenever new recreation fee areas are established. Prior to these fees going into effect, the White Mountain National Forest will present this proposal to the Eastern Region Recreation Resource Advisory Committee (RRAC). The Federal Lands Recreation Enhancement Act requires a recommendation from the Eastern Region Recreation Resource Advisory Committee (RRAC) prior to a decision and implementation.

People wanting to rent Cabot Cabin will need to do so through the National Recreation Reservation Service, at http://www.recreation.gov or by calling 1-877-444-6777. The National Recreation Reservation Service charges a $10 fee for reservations.

Dated: December 23, 2008.
Thomas G. Wagner,
White Mountain National Forest Supervisor.

[FR Doc. E8-31223 Filed 1-5-09; 8:45 am]

BILLING CODE 3410-11-M